DEPARTMENT OF HOUSING AND URBAN DEVELOPMENT

[Docket No. FR-5907-N-11]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number). HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; ENERGY: Mr. David Steinau, Department of Energy, Office of Property Management, OECM MA-50, 4B122, 1000 Independence Ave. SW., Washington, DC 20585, (202) 287-1503; GSA: Mr. Flavio Peres, General Services Administration, Office of Real Property Utilization and Disposal, 1800 F Street NW., Room 7040 Washington, DC 20405, (202) 501-0084; INTERIOR: Mr. Michael Wright, Acquisition & Property Management, Department of the Interior, 3960 N. 56th Ave. #104, Hollywood, FL 33021, (443) 223-4639; NASA: Mr. Frank T. Bellinger, Facilities Engineering Division, National Aeronautics & Space Administration, Code JX, Washington, DC 20546, (202)-358-1124; NAVY: Mr. Steve Matteo, Department of the Navy, Asset Management Division, Naval Facilities Engineering Command, Washington Navy Yard, 1330 Patterson Ave. SW., Suite 1000, Washington, DC 20374, (202) 685-9426; VA: Ms. Jessica L. Kaplan, Department of Veteran Affairs, 810 Vermont Ave. NW., (0031E), Washington, DC 20420, (202) 632-5831 (These are not toll-free numbers).

Dated: March 3, 2016.
Brian P. Fitzmaurice,
Director, Division of Community Assistance, Office of Special Needs Assistance Programs.

TITLE V, FEDERAL SURPLUS PROPERTY PROGRAM FEDERAL REGISTER REPORT FOR 03/11/2016

Suitable/Available Properties

Building

California

Buck Hotshot Office RPUID: B113

24545 Highway 120

Groveland CA 95321

Landholding Agency: Agriculture

Property Number: 15201610018

Status: Excess

Directions: Site 5401, Building 2205, Groveland RS

Comments: off-site removal only; 33+ yrs. old; 2,000 sq. ft.; storage; beyond economical repair; contact Agriculture for more information.

Buck Meadow Bone Yard RPUID: B1

24545 Hwy 120

Groveland CA 95321

Landholding Agency: Agriculture

Property Number: 15201610021

Status: Excess

Directions: Site 5401, Building 2114, Groveland RS

Comments: off-site removal only; 83+ yrs. old; 2,400 sq. ft.; office/warehouse; beyond economical repair; contact Agriculture for more information.

Florida

Tract 104-113/M.R.D. Properties

98710 Overseas Highway

Key Largo FL 33037

Landholding Agency: Interior

Property Number: 61201610003

Status: Excess

Comments: off-site removal only; 90+ yrs. old; 1,439 sq. ft.; office; poor condition; contact Interior for more information.

Louisiana

3 Buildings & 12.9 Fee Acres

400 Edwards Ave./Harahan FSS Depot

Elmwood LA 70123

Landholding Agency: GSA

Property Number: 54201610009

Status: Surplus

GSA Number: 7-G-LA-0532-AA

Directions: Warehouse 201,964.79 sq ft.; office/garage 5,034.67 sq ft.; pump house 1,493.33 sq ft.

Comments: 47+ yrs. old; warehouse storage; roof leaks; walls deteriorated; contact GSA for more information.

New York

5 Buildings

Jamaica Bay Unit, Floyd Bennett Field

Brooklyn NY 11234

Landholding Agency: Interior

Property Number: 61201610004

Status: Excess

Directions: Building's 129, 130, 131, 132, 132A

Comments: off-site removal only; 50+ yrs. old; 45,463 sq. ft.; 20+ yrs. vacant; plant; residential; office; poor conditions; contact Interior for more information.

Compensated Work Therapy

(CWT) Transitional Residences

113 Holland Avenue

Albany NY 12208

Landholding Agency: VA

Property Number: 97201610001

Status: Unutilized

Comments: 85+ yrs. old; 1,636 sq. ft.; residential; heating system inefficient; no future agency need; contact VA for more information.

Compensated Work Therapy

Property (CWT) Transitional Residences

223 Delaware Ave.,

Delmar NY 12054

Landholding Agency: VA

Property Number: 97201610002

Status: Unutilized

Comments: 124+ yrs. old; 1,720 sq. ft.; residential; heating system inefficient; no future agency need; contact VA for more information.

Compensated Work Therapy

Property (CWT) Transitional Residences

893 5th Avenue

Troy NY 12181

Landholding Agency: VA

Property Number: 97201610003

Status: Unutilized

Directions: Sits on 0.06 acres of land

Comments: 85+ yrs. old; 2,280 sq. ft.; residential; water damage to walls; no future agency need; contact VA for more information.

Virginia

BG John Cropper Memorial Center

R1 & R2 Kearsarge Circle

Wallops Island VA 23337

Landholding Agency: Navy

Property Number: 77201610026

Status: Unutilized

Directions: Sits on 5.3 Acres of land

Comments: 46+ yrs. old; 16,654 sq. ft.; vacant 1 mo.; storage; no future agency need; contact Navy for more information.

Washington

Norwood Garden Shed

5001 (274009010602)

17 Liscumm Road

Quinault WA 98575

Landholding Agency: Agriculture

Property Number: 15201610022

Status: Excess

Directions: 07665 00

Comments: off-site removal only; 36+ yrs. old; 358 sq. ft.; 4+ mos. vacant; storage; poor conditions; failing roof; contact Agriculture for more information.

USARC Moses Lake

Arnold Dr., at Newell St.,

Building 4306

Moses Lake WA 98837

Landholding Agency: GSA

Property Number: 54201610010

Status: Excess

GSA Number: 9-I-WA-1141

Directions: Sits on 2.86 acres; Disposal Agency: GSA; Landholding Agency: Nat'l Park Service

Comments: 62+ yrs. old; 4,499 sq. ft.; boys & girls club; 4+ yrs. vacant; roof needs repairs; contact GSA for more information.

Unsuitable Properties

Building

Alaska

Annette Island WSO

NWS Compound

Annette AK 99920

Landholding Agency: GSA

Property Number: 54201610007

Status: Excess

GSA Number: 9-C-AK-00017-S

Directions: Landholding Agency: NOAA; Disposal Agency: GSA

Comments: property is inaccessible because it is located on a (small) off-shore island; Annette Island is an extremely remote part of rural Alaska in the Alletuain Island chain.

Reasons: Isolated area

California

NASA/BE 1071/SAP Property ID 2

Map Grid N27, South Perimeter Road

NASA Ames Research Ce CA

Landholding Agency: NASA

Property Number: 71201610004

Status: Unutilized

Directions: Property name Public Works Riggers Shop, No. 343; Sits on 1,785 sq. ft. of land

Comments: public access denied and no alternative method to gain access without compromising national security; located within floodway which has not been correct or contained.

Reasons: Secured Area

Colorado

Quarters #699—Eagle Cliff

699 Falcon Lane

Estes Park CO 80517

Landholding Agency: Interior

Property Number: 61201610002

Status: Excess

Comments: structure compromised from the flood of 2013.

Reasons: Extensive deterioration

Illinois

2 Buildings

Fermi National Accelerator Lab

Batavia IL 60510

Landholding Agency: Energy

Property Number: 41201610006

Status: Excess

Directions: Building 002 & T121

Comments: public access denied and no alternative method to gain access without compromising national security.

Reasons: Secured Area

Massachusetts

Tract 15-2376 Cudworth House

15 Kimberly Lane

Truro MA 02667

Landholding Agency: Interior

Property Number: 61201610001

Status: Excess

Comments: property located within floodway which has not been correct or contained.

Reasons: Floodway

Mississippi

2 Buildings

Stennis Space Center

Hancock County MS 39529

Landholding Agency: NASA

Property Number: 71201610003

Status: Unutilized

Directions: Building #4312 & 8304

Comments: public access denied and no alternative method to gain access without compromising national security.

Reasons: Secured Area

New Mexico

7 Buildings

2000 Wyoming Blvd. SE

Albuquerque NM 87117

Landholding Agency: Energy

Property Number: 41201610004

Status: Unutilized

Directions: Building #105, 106, 112, 116, 128, 129, 132

Comments: public access denied and no alternative method to gain access without compromising national security; property located within an airport runway clear zone or military airfield.

Reasons: Secured Area

Sandia National Laboratories

892E

Albuquerque NM 87123

Landholding Agency: Energy

Property Number: 41201610005

Status: Excess

Comments: public access denied and no alternative method to gain access without compromising national security.

Reasons: Secured Area

Ohio

8133, Pump Station No. 1

6100 Columbus Avenue

Sandusky OH 44870

Landholding Agency: NASA

Property Number: 71201610002

Status: Unutilized

Comments: public access denied and no alternative method to gain access without compromising national security; property located within floodway which has not been correct or contained.

Reasons: Floodway; Secured Area

Washington

Norwood Storage Sheds

07665 00; Liscumm Road

Quinault WA 98575

Landholding Agency: Agriculture

Property Number: 15201610019

Status: Excess

Directions: 5002 (273986010602); 5004 (273987010602); 5006 (273989010602); 5007 (273990010602; 5008 (273992010602); 5009 (273993010602); 5010 (273995010602); 5011 (273996010602); 5012 (273997010602); 5013 (273998010602)

Comments: documented deficiencies: buildings are collapsing; severe deterioration; significant overgrown vegetation around and inside buildings.

Reasons: Extensive deterioration

Land

Mississippi

NAS Meridian Solar Farm;

460 Acres

Fuller & Rabbit Farm

Meridian MS

Landholding Agency: Navy

Property Number: 77201610027

Status: Underutilized

Comments: property located within a floodway which has not been corrected or contained.

Reasons: Floodway

[FR Doc. 2016-05217 Filed 3-10-16; 8:45 am]

BILLING CODE 4210-67-P